DEPARTMENT OF COMMERCE

International Trade Administration

[C-570-938]

Citric Acid and Certain Citrate Salts From the People's Republic of China: Extension of Time Limit for Preliminary Results of Countervailing Duty Administrative Review

AGENCY: Import Administration, International Trade Administration, Department of Commerce.

DATES: Effective Date: December 30, 2011.

FOR FURTHER INFORMATION CONTACT: Patricia Tran, AD/CVD Operations, Office 3, Import Administration, International Trade Administration, U.S. Department of Commerce, 14th Street and Constitution Avenue NW., Washington, DC 20230; telephone: (202) 482-1503.

SUPPLEMENTARY INFORMATION:

Background

On May 29, 2009 the Department of Commerce (the Department) published in the Federal Register the countervailing duty order on citric acid and certain citrate salts from the People's Republic of China (PRC). See Countervailing Duty Orders and Amendments of Final Affirmative Countervailing Duty Determinations: Citric Acid and Certain Citrate Salts, 74 FR 25705 (May 29, 2009). On May 2, 2011, the Department published a notice of “Opportunity to Request Administrative Review” of this countervailing duty order. See Antidumping or Countervailing Duty Order, Finding, or Suspended Investigation; Opportunity To Request Administrative Review, 76 FR 24460 (May 2, 2011). In accordance with 19 CFR 351.221(c)(1)(i), we published a notice of initiation of the administrative review on June 28, 2011, for the January 1, 2010, through December 31, 2010, period of review (POR). See Initiation of Antidumping and Countervailing Duty Administrative Reviews and Requests for Revocation in Part, 76 FR 37781 (June 28, 2011). The preliminary results for this review are currently due no later than January 31, 2012.

Extension of Time Limits for Preliminary Results

Section 751(a)(3)(A) of the Tariff Act of 1930, as amended (the Act), requires the Department to issue the preliminary results of an administrative review within 245 days after the last day of the anniversary month of an order for which a review is requested. If it is not practicable to issue the preliminary results within 245 days, section 751(a)(3)(A) of the Act allows the Department to extend this deadline to a maximum of 365 days.

Because the Department will require additional time to review and analyze questionnaire responses from the Government of the People's Republic of China and the respondent, RZBC Co., Ltd., and its affiliates, and may issue supplemental questionnaires, it is not practicable to complete the preliminary results within the original deadline (i.e., January 31, 2012). Therefore, the Department is extending the time limit for completion of the preliminary results by 120 days to not later than May 30, 2012, in accordance with section 751(a)(3)(A) of the Act.

We are issuing and publishing this notice in accordance with sections 751(a)(3)(A) and 777(i)(1) of the Act.

Dated: December 21, 2011.
Christian Marsh,
Deputy Assistant Secretary for Antidumping and Countervailing Duty Operations.

[FR Doc. 2011-33596 Filed 12-29-11; 8:45 am]

BILLING CODE 3510-DS-P